ELECTION ASSISTANCE COMMISSION

Sunshine Act Meetings

AGENCY: U.S. Election Assistance Commission.

ACTION: Notice of public meeting agenda.

SUMMARY: U.S. Election Assistance Commission Meeting to Vote on Adoption of Voluntary Voting System Guidelines (VVSG) Lifecycle Policy 1.0.

DATES: Tuesday, April 5, 2022, 1 p.m.-2 p.m. Eastern.

ADDRESSES: Virtual via Zoom.

The official meeting is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an official meeting on the Voluntary Voting System Guidelines (VVSG) Lifecycle Policy 1.0.

Agenda: The U.S. Election Assistance Commission (EAC) will hear a presentation about the Voluntary Voting System Guidelines (VVSG) Lifecycle Policy 1.0 from EAC Testing and Certification Program Director Jon Panek and will consider the VVSG Lifecycle Policy 1.0 for adoption. The meeting will also include an update on VVSG 2.0 implementation.

The full agenda will be posted in advance on the EAC website: https://www.eac.gov.

Background: The Federal Election Commission published the first two sets of federal standards in 1990 and 2002. The EAC then adopted Version 1.0 of the VVSG on December 13, 2005 and on March 31, 2015, the EAC Commissioners unanimously approved VVSG 1.1. On February 10, 2021, the EAC Commissioners unanimously approved the most recent iteration, VVSG 2.0.

Since the approval of VVSG 2.0, the EAC has worked on next steps and materials so these standards and requirements can be implemented, and new voting systems can be manufactured and tested to those standards. Part of those materials is the VVSG Lifecycle Policy 1.0.

The intent of the VVSG Lifecycle Policy 1.0 is to help facilitate migration to new VVSG standards by providing guidance on the types of version changes, Voting System Test Laboratory (VSTL) accreditation, deprecation of obsolete major standards, and establishing a periodic review timeline for new standards going forward. The policy defines changes that may be made to systems certified to deprecated standards and describes the process for updating the standards as defined in the Help America Vote Act (HAVA).

A public comment period on the Lifecycle Policy was available from November 9 to December 7, 2021. The EAC also gathered feedback from its advisory boards in 2021.

Status: This meeting will be open to the public.

Amanda Joiner,
Acting General Counsel, U.S. Election Assistance Commission.

[FR Doc. 2022-06025 Filed 3-17-22; 4:15 pm]

BILLING CODE P